DEPARTMENT OF ENERGY

Secretary of Energy Advisory Board

AGENCY: Department of Energy, DoE.

ACTION: Notice of open meeting.

SUMMARY: This notice announces an open meeting of the Secretary of Energy Advisory Board (SEAB). SEAB was reestablished pursuant to the Federal Advisory Committee Act (Pub. L. 92-463, 86 Stat. 770) (the Act). This notice is provided in accordance with the Act.

DATES: Thursday, July 19, 2012, 3:00 p.m.-4:30 p.m.

Location: Teleconference.

FOR FURTHER INFORMATION CONTACT: Alyssa Morrissey, Deputy Designated Federal Officer, U.S. Department of Energy, 1000 Independence Avenue SW., Washington, DC 20585; telephone (202) 586-2926 or facsimile (202) 586-1441; seab@hq.doe.gov.

SUPPLEMENTARY INFORMATION: Background: The Board was reestablished to provide advice and recommendations to the Secretary on the Department's basic and applied research, economic and national security policy, educational issues, operational issues and other activities as directed by the Secretary.

Purpose of the Meeting: The Buildings Efficiency and Small Modular Reactor Subcommittees will present progress updates on their respective reports to the Board. The Subcommittees' interim reports will be submitted to the Board for review at the following full committee meeting.

Tentative Agenda: The meeting will start at 3:00 p.m. on July 19. The meeting agenda includes reports from the Buildings Efficiency and Small Modular Reactor Subcommittees on the general progress of their reports. A full discussion of draft reports and recommendations will take place later this calendar year. The meeting will conclude at 4:30 p.m.

Public Participation: The meeting will be conducted by teleconference and is open to the public. Individuals who would like to call in must RSVP to Alyssa Morrissey no later than 5:00 p.m. on Monday, July 16, 2012 at seab@hq.doe.gov. There will be a limited number of call-in ports and RSVP is required to obtain dial-in information. Call-in ports will be made available to members of the public on a first come, first served basis. Individuals and representatives of organizations who would like to offer comments may do so at the meeting on Thursday, July 19, 2012. Approximately 30 minutes will be reserved for public comments. Time allotted per speaker will depend on the number who wish to speak but will not exceed 5 minutes. Public Comment will be available on a first come, first served basis and will be queued by the call operator. The Designated Federal Official is empowered to conduct the meeting in a fashion that will facilitate the orderly conduct of business.

Those not able to call in to the meeting or have insufficient time to address the committee are invited to send a written statement to Alyssa Morrissey, U.S. Department of Energy, 1000 Independence Avenue SW., Washington, DC 20585, email to seab@hq.doe.gov.

Minutes: The minutes of the meeting will be available on the SEAB Web site http://www.energy.gov/SEAB or by contacting Ms. Morrissey. She may be reached at the postal address or email address above.

Issued in Washington, DC, on June 22, 2012.
Carol A. Matthews,
Committee Management Officer.

[FR Doc. 2012-15774 Filed 6-26-12; 8:45 am]

BILLING CODE 6450-01-P